DEPARTMENT OF ENERGY

Federal Energy Regulatory Commission

[Docket No. EC04-29-000, et al.]

Bayou Cove Peaking Power LLC, et al.; Electric Rate and Corporate Filings

December 1, 2003.

The following filings have been made with the Commission. The filings are listed in ascending order within each docket classification.

1. Bayou Cove Peaking Power LLC and Entergy Gulf States, Inc.

[Docket No. EC04-29-000]

Take notice that on November 24, 2003, Bayou Cove Peaking Power LLC (Bayou Cove) and Entergy Gulf States, Inc. (Entergy Gulf States) (collectively, Applicants), tendered for filing with the Commission, pursuant to Section 203 of the Federal Power Act and Part 33 of the Commission's regulations, an application to transfer a substation from Bayou Cove to Entergy Gulf States pursuant to a previously-approved Interconnection and Operating Agreement.

Comment Date: December 15, 2003.

2. New York Independent System Operator, Inc.

[Docket No. ER01-3001-007]

Take notice that on November 24, 2003, the New York Independent System Operator, Inc. (NYISO) submitted further information regarding the relationship of demand response programs and the price of wholesale electricity in New York in compliance with the Commission's October 24, 2003 Order in Docket No. ER01-3001-006. The NYISO states it has served a copy of this filing upon all parties that have executed service agreements under the NYISO's Open Access Transmission Tariff and Market Administration and Control Area Services Tariff.

Comment Date: December 11, 2003.

3. Midwest Independent Transmission System Operator, Inc.

[Docket No. EC04-29-000]

Take notice that on November 24, 2003, the Midwest Independent Transmission System Operator, Inc. (Midwest ISO) corrected its November 21, 2003 compliance filing concerning Schedule 10-FERC (FERC Annual Charges Recovery) of its Open Access Transmission Tariff, FERC Electric Tariff, Second Revised Volume No. 1.

The Midwest ISO has requested the original effective date of September 1, 2003.

The Midwest ISO has also requested waiver of the service requirements set forth in 18 CFR 385.2010. The Midwest ISO states that it has electronically served a copy of this filing, with attachments, upon all Midwest ISO Members, Member representatives of Transmission Owners and Non-Transmission Owners, the Midwest ISO Advisory Committee participants, as well as all state commissions within the region and in addition, the filing has been electronically posted on the Midwest ISO's Web site at http://www.midwestiso.org under the heading “Filing to FERC” for other interested parties in this matter. The Midwest ISO states that it will provide hard copies to any interested parties upon request.

Comment Date: December 11, 2003.

4. Sempra Energy Trading Corp.

[Docket Nos. ER03-1413-001]

Take notice that on November 24, 2003, Sempra Energy Trading Corp. (SET) submitted for filing a revised rate schedule, modifying the rate schedule submitted on September 26, 2003 in the above-referenced docket.

Comment Date: December 11, 2003.

5. Watt Works LLC

[Docket No. ER04-98-001]

Take notice that on November 14, 2003, Watt Works LLC filed an amendment to its October 29, 2003 Notice of Cancellation. Watt Works LLC is requesting an effective date of October 22, 2003.

Comment Date: December 5, 2003.

6. PJM Interconnection, L.L.C.

[Docket No. ER04-173-000]

Take notice that on November 24, 2003, PJM Interconnection, L.L.C. (PJM), amended its November 6, 2003 filing in this docket to add two sheets to the Sixth Revised Volume No. 1 of the PJM Tariff that were included in the Fifth Revised Volume No. 1 of the PJM Tariff but inadvertently omitted from the Sixth Revised Volume No. 1 version of the PJM Tariff when it was initially filed on March 20, 2003 in Docket No. RT01-2-006.

PJM requests waiver of the Commission's notice regulations to permit an effective date of March 20, 2003, the initial effective date of the Sixth Revised Volume No. 1 version of the PJM Tariff.

PJM states that copies of this filing have been served upon each person designated on the official service list compiled by the Secretary in this proceeding, all PJM members, and each state electric utility regulatory commission in the PJM region.

Comment Date: December 11, 2003.

7. Southern California Edison Company

[Docket No. ER04-216-000]

Take notice that on November 24, 2003, Southern California Edison Company (SCE) tendered for filing revised rate sheets (Revised Sheets) to the Interconnection Facilities Agreement (Interconnection Agreement) and the Service Agreement for Wholesale Distribution Service (Service Agreement) between the City of Colton (Colton)and SCE. SCE states that the Revised Sheets reflect the parties( agreement to extend the term of service in the Service Agreement to twenty-five (25) years from the commencement date of Distribution Service under the Service Agreement, and to delete all references to the cost responsibility of the circuit breakers by Colton in the Interconnection Agreement.

SCE states that copies of this filing were served upon the Public Utilities Commission of the State of California and Colton.

Comment Date: December 11, 2003.

8. NorthWestern Energy

[Docket No. ER04-217-000]

Take notice that on November 24, 2003, NorthWestern Energy (NWE) tendered for filing with the Federal Energy Regulatory Commission pursuant to 18 CFR 35.13, as a change in rate schedule, Supplements to Rate Schedule FERC No. 175, the General Transfer Agreement between NWE and the Bonneville Power Administration (Bonneville).

NWE states that a copy of the filing was served upon Bonneville.

Comment Date: December 11, 2003.

9. Griffin Energy Marketing, LLC

[Docket No. ER04-218-000]

Take notice that on November 24, 2003, Griffin Energy Marketing, LLC (Griffin Energy) tendered for filing a Notice of Cancellation of its market-based rate tariff, with a requested effective date of November 20, 2003.

Comment Date: December 11, 2003.

10. Deseret Generation & Transmission Co-operative, Inc.

[Docket No. ER04-221-000]

Take notice that on November 24, 2003, Deseret Generation & Transmission Co-operative, Inc. (Deseret) tendered for filing Amendments to First Revised Service Agreement Nos. 1 through 6 to its FERC Electric Tariff, Volume No. 1. The amendment provides for a rate rebate for the calendar year 2003 to each of Deseret's six Member Cooperatives. Deseret requests an effective date of December 1, 2003.

Deseret states that copies of this filing were served upon Deseret's six Member Cooperatives.

Comment Date: December 11, 2003.

11. CPV Milford, LLC

[Docket No. ER04-222-000]

Take notice that on November 24, 2003, CPV Milford, LLC tendered for filing an application for authorization to sell energy, capacity, and ancillary services and to provide asset management services at market-based rates pursuant to Section 205 of the Federal Power Act.

Comment Date: December 11, 2003.

12. PJM Interconnection, L.L.C.

[Docket No. RT01-2-012]

Take notice that on November 24, 2003, PJM Interconnection, L.L.C. (PJM) tendered for filing proposed changes to portions of Schedule 6 of the PJM Operating Agreement, PJM's Regional Transmission Expansion Planning Protocol. PJM states that the proposed amendments are submitted to comply with the Commission's Order in this proceeding dated October 24, 2003.

PJM states that copies of this filing have been served on all parties, as well as on all PJM Members and the state electric utility regulatory commissions in the PJM region.

Comment Date: December 11, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E3-00483 Filed 12-5-03; 8:45 am]

BILLING CODE 6717-01-P